DEPARTMENT OF ENERGY

Federal Energy Regulatory Commission

[Project No. 2790-074]

Boott Hydropower, LLC; Notice of Settlement Agreement and Soliciting Comments

Take notice that the following settlement agreement has been filed with the Commission and is available for public inspection.

a. Type of Application: Settlement Agreement.

b. Project No.: 2790-074.

c. Date Filed: August 22, 2022.

d. Applicant: Boott Hydropower, LLC (Boott).

e. Name of Project: Lowell Hydroelectric Project (project).

f. Location: The existing project is located on the Merrimack River in Middlesex County, Massachusetts and Hillsborough County, New Hampshire. The project does not occupy any federal land but is located within the administrative boundary of the Lowell National Historical Park.

g. Filed Pursuant to: Rule 602 of the Commission's Rules of Practice and Procedure, 18 CFR 385.602.

h. Applicant Contact: Kevin Webb, Licensing Manager, Boott Hydropower, LLC, 670 N Commercial Street, Suite 204, Manchester, NH 03101; (978) 935-6039 or kwebb@centralriverspower.com.

i. FERC Contact: Bill Connelly, (202) 502-8587 or william.connelly@ferc.gov.

j. Deadline for Filing Comments: September 23, 2022. Reply comments due October 8, 2022.

The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2790-074.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Boott filed the Settlement Agreement on behalf of itself, the U.S. Fish and Wildlife Service, the National Marine Fisheries Service, the New Hampshire Fish and Game Department, the Massachusetts Division of Marine Fisheries, and the Massachusetts Division of Fisheries and Wildlife. The purpose of the Settlement Agreement is to resolve, among the signatories, issues related to minimum flows in the project's bypassed reach and fish passage associated with the issuance of any new license and fishway prescriptions under Section 18 of the FPA for the project. Specifically, the Settlement Agreement includes, but is not limited to, proposed measures for minimum flows in the bypassed reach, modifications to existing upstream and downstream fish passage facilities, modifications to the project's bypassed reach for upstream fish passage, installation of an upstream fish passage facility in the project tailrace, fish passage studies and effectiveness testing, fish passage protection, and fish passage facility operation. Boott requests that the Commission incorporate the proposed measures into any new license issued.

l. A copy of the settlement agreement may be viewed on the Commission's website at http://www.ferc.gov using the “eLibrary” link. Enter the docket number, excluding the last three digits, in the docket number field to access the document (i.e., P-2790). At this time, the Commission has suspended access to the Commission's Public Reference Room, due to the proclamation declaring a National Emergency concerning the Novel Coronavirus Disease (COVID-19), issued by the President on March 13, 2020. For assistance, contact FERC Online Support.

You may also register online at https://ferconline.ferc.gov/FERCOnline.aspx to be notified via email of new filings and issuances related to this or other pending projects. For assistance, contact FERC Online Support.

Dated: August 24, 2022.
Kimberly D. Bose,
Secretary.

[FR Doc. 2022-18656 Filed 8-29-22; 8:45 am]

BILLING CODE 6717-01-P